DEPARTMENT OF HOUSING AND URBAN DEVELOPMENT

[Docket No. FR-5187-N-61]

Public Housing Capital Fund Program

AGENCY: Office of the Chief Information Officer, HUD.

ACTION: Notice.

SUMMARY: The proposed information collection requirement described below has been submitted to the Office of Management and Budget (OMB) for review, as required by the Paperwork Reduction Act. The Department is soliciting public comments on the subject proposal.

Each year Congress appropriates funds to approximately 3,200 Public Housing Authorities (PHAs) for modernization, development, financing, and management improvements. The funds are allocated based on a complex formula. The forms in this collection are used to appropriately disburse and utilize the funds provided to PHAs. Additionally, these forms provide the information necessary to approve a financing transaction in addition to any Mixed-Finance and Capital Fund Financing transactions. Respondents include the approximately 3,200 PHA receiving Capital Funds and other PHAs wishing to pursue financing.

DATES: Comments Due Date: December 15, 2008.

ADDRESSES: Interested persons are invited to submit comments regarding this proposal. Comments should refer to the proposal by name and/or OMB Approval Number (2577-0157) and should be sent to: HUD Desk Officer, Office of Management and Budget, New Executive Office Building, Washington, DC 20503; fax: 202-395-6974.

FOR FURTHER INFORMATION CONTACT: Lillian Deitzer, Reports Management Officer, QDAM, Department of Housing and Urban Development, 451 Seventh Street, SW., Washington, DC 20410; e-mail Lillian Deitzer at Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Public Housing Capital Fund Program.

OMB Approval Number: 2577-0157.

Form Numbers: HUD-50029, HUD-50030, HUD-5084, HUD-5087, HUD-51000, HUD-51001, HUD-51002, HUD-51003, HUD-510004, HUD-51915, HUD-51915-A, HUD-51971-1, HUD-51971-ll, HUD-52396, HUD-52427, HUD-52482, HUD-52483-A, HUD-52484, HUD-52485, HUD-52651-A, HUD 52829, HUD-52830, HUD-52832, HUD-52833, HUD-52845, HUD-52846, HUD-52847, HUD-52849, HUD-53001, HUD-53015, HUD-5370, HUD-5370-EZ, HUD-5370-C, HUD-5372, HUD-5378, HUD-5460.

Description of the Need for the Information and its Proposed Use: Each year Congress appropriates funds to approximately 3,200 Public Housing Authorities (PHAs) for modernization, development, financing, and management improvements. The funds are allocated based on a complex formula. The forms in this collection are used to appropriately disburse and utilize the funds provided to PHAs. Additionally, these forms provide the information necessary to approve a financing transaction in addition to any Mixed-Finance and Capital Fund Financing transactions. Respondents include the approximately 3,200 PHA receiving Capital Funds and other PHAs wishing to pursue financing.

Frequency of Submission: On occasion, monthly, annually.

Reporting Burden
Number of respondents | Annual responses | × | Hours per response | = | Burden hours
3,105 | 23.460 |  | 4.497 |  | 327,590

Total Estimated Burden Hours: 327,590.

Status: Revision of a currently approved collection.

Authority: Section 3507 of the Paperwork Reduction Act of 1995, 44 U.S.C. 35, as amended.

Dated: November 6, 2008.
Lillian L. Deitzer,
Departmental Paperwork Reduction Act Officer, Office of the Chief Information Officer.

[FR Doc. E8-27129 Filed 11-13-08; 8:45 am]

BILLING CODE 4210-67-P